DEPARTMENT OF TRANSPORTATION

Federal Aviation Administration

14 CFR Part 97

[Docket No. 31085; Amdt. No. 3703]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 4, 2016. The compliance date for each SIAP, associated Takeoff Minimums, and ODP is specified in the amendatory provisions.

The incorporation by reference of certain publications listed in the regulations is approved by the Director of the Federal Register as of August 4, 2016.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR part 97:

Air Traffic Control, Airports, Incorporation by reference, Navigation (air).

Issued in Washington, DC, on July 1, 2016.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 18 August 2016

Albia, IA, Albia Muni, VOR-A, Amdt 4A

Coldwater, KS, Comanche County, RNAV (GPS) RWY 35, Orig

Effective 15 September 2016

Anchorage, AK, Ted Stevens Anchorage Intl, ILS RWY 15, Amdt 6C

Anchorage, AK, Ted Stevens Anchorage Intl, RNAV (RNP) RWY 33, Orig-B

Anchorage, AK, Ted Stevens Anchorage Intl, RNAV (RNP) Z RWY 7R, Orig-B

Galena, AK, Edward G Pitka Sr, VOR/DME RWY 7, Amdt 8A, CANCELED

Galena, AK, Edward G Pitka Sr, VOR/DME RWY 25, Amdt 11A, CANCELED

Kipnuk, AK, Kipnuk, RNAV (GPS) RWY 15, Orig, CANCELED

Kipnuk, AK, Kipnuk, RNAV (GPS) RWY 33, Orig, CANCELED

Nulato, AK, Nulato, RNAV (GPS) RWY 20, Orig-B

Willow, AK, Willow, BIG LAKE TWO Graphic DP

Arcata/Eureka, CA, Arcata, VOR/DME RWY 1, Amdt 8A, CANCELED

Bishop, CA, Bishop, VOR/DME OR GPS-B, Amdt 4B, CANCELED

Concord, CA, Buchanan Field, LDA RWY 19R, Amdt 7E

Grass Valley, CA, Nevada County Air Park, GPS RWY 7, Orig-A, CANCELED

Lancaster CA, General WM J Fox Airfield, NDB-C, Amdt 3A, CANCELED

Pueblo, CO, Pueblo Memorial, RNAV (GPS) RWY 17, Orig-A

Fort Myers, FL, Southwest Florida Intl, RNAV (GPS) RWY 6, Amdt 2

Americus, GA, Jimmy Carter Rgnl, ILS OR LOC RWY 23, Amdt 1B

Blakely, GA, Early County, LOC/NDB RWY 23, Amdt 1B

Nashville, GA, Berrien Co, Takeoff Minimums and Obstacle DP, Amdt 1A

Kamuela, HI, Waimea-Kohala, RNAV (GPS) RWY 22, Orig-B

Kamuela, HI, Waimea-Kohala, VOR/DME-A, Orig-A

Coeur D'Alene, ID, Coeur D'Alene-Pappy Boyington Field, NDB RWY 6, Amdt 2E, CANCELED

Lyons, KS, Lyons-Rice County Muni, GPS RWY 17R, Orig, CANCELED

Lyons, KS, Lyons-Rice County Muni, GPS RWY 35L, Orig, CANCELED

Lyons, KS, Lyons-Rice County Muni, NDB RWY 17R, Amdt 6, CANCELED

Lyons, KS, Lyons-Rice County Muni, RNAV (GPS) RWY 17R, Orig

Lyons, KS, Lyons-Rice County Muni, RNAV (GPS) RWY 35L, Orig

Lyons, KS, Lyons-Rice County Muni, Takeoff Minimums and Obstacle DP, Orig

Lyons, KS, Lyons-Rice County Muni, VOR-A, Amdt 4

Russellville, KY, Russellville-Logan County, VOR/DME RWY 24, Amdt 7A, CANCELED

Lake Charles, LA, Lake Charles Rgnl, ILS OR LOC RWY 15, Amdt 22

Lake Charles, LA, Lake Charles Rgnl, LOC BC RWY 33, Amdt 20

Ruston, LA, Ruston Rgnl, NDB RWY 36, Orig-A, CANCELED

Benton Harbor, MI, Southwest Michigan Rgnl, NDB RWY 28, Amdt 10C, CANCELED

Ennis, MT, Ennis-Big Sky, RNAV (GPS) RWY 16, Amdt 1

Ennis, MT, Ennis-Big Sky, RNAV (GPS) RWY 34, Orig

Burwell, NE, Cram Field, NDB RWY 15, Amdt 1A, CANCELED

Corvallis, OR, Corvallis Muni, Takeoff Minimums and Obstacle DP, Amdt 6A

Carlisle, PA, Carlisle, NDB-B, Orig-B

Harrisburg, PA, Harrisburg Intl, ILS OR LOC RWY 31, Amdt 1C

Lancaster, PA, Lancaster, ILS OR LOC RWY 8, Amdt 2B

Lancaster, PA, Lancaster, RNAV (GPS) RWY 31, Amdt 1B

Lancaster, PA, Lancaster, VOR RWY 8, Amdt 21B

Lancaster, PA, Lancaster, VOR RWY 31, Amdt 16B

Lancaster, PA, Lancaster, VOR/DME RWY 8, Amdt 6B

Lancaster, PA, Lancaster, VOR/DME RWY 31, Amdt 4C

Pittsburgh, PA, Allegheny County, Takeoff Minimums and Obstacle DP, Amdt 8A

Pittsburgh, PA, Pittsburgh Intl, Takeoff Minimums and Obstacle DP, Amdt 5

Ponce, RQ, Mercedita, Takeoff Minimums and Obstacle DP, Amdt 5

Columbia/Mount, TN, Maury County, VOR/DME-A, Amdt 4, CANCELED

Somerville, TN, Fayette County, NDB RWY 19, Amdt 1C, CANCELED

Corpus Christi, TX, Corpus Christi Intl, RNAV (GPS) RWY 18, Amdt 2

Killeen, TX, Skylark Field, ILS OR LOC RWY 1, Amdt 3, CANCELED

Killeen, TX, Skylark Field, LOC RWY 1, Orig

Killeen, TX, Skylark Field, RNAV (GPS) RWY 1, Amdt 1

Laredo, TX, Laredo Intl, NDB RWY 17L, Amdt 3A, CANCELED

Laredo, TX, Laredo Intl, VOR OR TACAN RWY 32, Amdt 11

Farmville, VA, Farmville Rgnl, Takeoff Minimums and Obstacle DP, Amdt 1A

Morgantown, WV, Morgantown Muni-Walter L Bill Hart Fld, VOR-A, Amdt 13, CANCELED

Rawlins, WY, Rawlins Muni/Harvey Field, Takeoff Minimums and Obstacle DP, Amdt 5

[FR Doc. 2016-18438 Filed 8-3-16; 8:45 am]

BILLING CODE 4910-13-P